DEPARTMENT OF HOMELAND SECURITY

Coast Guard

[Docket No. USCG-2009-0973]

Random Drug Testing Rate for Covered Crewmembers for 2021

AGENCY: Coast Guard, DHS.

ACTION: Notice of minimum random drug testing rate.

SUMMARY: The Coast Guard has set the calendar year 2021 minimum random drug testing rate at 50 percent of covered crewmembers.

DATES: The minimum random drug testing rate is effective January 1, 2021 through December 31, 2021.

FOR FURTHER INFORMATION CONTACT: For questions about this notice, please contact Mr. Patrick Mannion, Drug and Alcohol Prevention and Investigation Program Manager, Office of Investigations and Analysis (CG-INV), U.S. Coast Guard Headquarters, via email; DAPI@uscg.mil or phone, 202-372-1033.

SUPPLEMENTARY INFORMATION: The Coast Guard requires marine employers to establish random drug testing programs for covered crewmembers in accordance with 46 CFR 16.230. Marine employers are required by 46 CFR 16.500 to collect and maintain a record of drug testing data for each calendar year, and submit this data to the Coast Guard in a Management Information System (MIS) Report by March 15 of the following year.

Each year, the Coast Guard will publish a notice reporting the results of random drug testing for the previous calendar year's MIS data and the required minimum annual percentage rate for random drug testing for the next calendar year. The purpose of setting a minimum random drug testing rate is to promote maritime safety by establishing an effective deterrent to drug misuse within the maritime workforce. Intoxicated operations poses a serious threat to life, property and the environment in the maritime commons. As such, the minimum random drug testing rate is intended to deter and detect illegal drug misuse in the maritime industry.

The Coast Guard announces that the minimum random drug testing rate for calendar year 2021 is 50 percent. The Coast Guard continues a 50 percent minimum random drug testing rate for 2021 as a result of MIS data for the most recent reporting year which indicated that the positive rate continues to be greater than one percent. 46 CFR 16.230(f)(2) requires the Commandant to set the minimum random drug testing rate at 50 percent when the positivity rate for drug use is greater than 1 percent.

For 2021, the minimum random drug testing rate will be 50 percent of covered employees for the period of January 1, 2021 through December 31, 2021 in accordance with 46 CFR 16.230(e).

Dated: April 21, 2021.
Wayne R. Arguin,
Captain, U.S. Coast Guard, Director of Inspections and Compliance.

[FR Doc. 2021-08706 Filed 4-26-21; 8:45 am]

BILLING CODE 9110-04-P